DEPARTMENT OF TRANSPORTATION

Federal Aviation Administration

14 CFR Part 39

[Docket No. FAA-2004-19001; Directorate Identifier 2004-NM-98-AD; Amendment 39-13842; AD 2004-22-14]

RIN 2120-AA64

Airworthiness Directives; Saab Model SAAB SF340A and SAAB 340B Series Airplanes

AGENCY: Federal Aviation Administration (FAA), DOT.

ACTION: Final rule.

SUMMARY: The FAA is adopting a new airworthiness directive (AD) for certain Saab Model SAAB SF340A and SAAB 340B series airplanes. This AD requires an inspection of the elevator and aileron trim-tab fittings, and related investigative/corrective actions if necessary. This AD is prompted by reports of improperly installed rivets in the retainers that hold the elevator trim-tab bearings. We are issuing this AD to prevent the elevator and aileron trim-tab bearings from coming loose, which could result in excessive play in the elevator and aileron trim systems, and reduced controllability of the airplane.

DATES: This AD becomes effective December 10, 2004.

The incorporation by reference of a certain publication listed in the AD is approved by the Director of the Federal Register as of December 10, 2004.

ADDRESSES: For service information identified in this AD, contact Saab Aircraft AB, SAAB Aircraft Product Support, S-581.88, Linköping, Sweden. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION: The FAA proposed to amend 14 CFR Part 39 with an AD for certain Saab Model SAAB SF340A and SAAB 340B series airplanes. That action, published in the Federal Register on September 3, 2004 (69 FR 53846), proposed to require an inspection of the elevator and aileron trim-tab fittings, and related investigative/corrective actions if necessary.

Comments

We provided the public the opportunity to participate in the development of this AD. No comments have been submitted on the proposed AD or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Inspection | 16 | $65 | None | $1,040 | 170 | $176,800

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-22-14 Saab Aircraft AB: Amendment 39-13842. Docket No. FAA-2004-19001; Directorate Identifier 2004-NM-98-AD.

Effective Date

(a) This AD becomes effective December 10, 2004.

Affected ADs

(b) None.

Applicability

(c) This AD applies to certain Saab Model SAAB SF340A series airplanes, line numbers 004 through 159 inclusive; and SAAB 340B series airplanes, line numbers 160 through 459 inclusive; certificated in any category.

Unsafe Condition

(d) This AD was prompted by reports of improperly installed rivets in the retainers located in the elevator trim-tab fittings. The retainers hold the trim-tab bearings. We are issuing this AD to prevent the elevator and aileron trim-tab bearings from coming loose, which could result in excessive play in the elevator and aileron trim systems, and reduced controllability of the airplane.

Compliance

(e) You are responsible for having the actions required by this AD performed within the compliance times specified, unless the actions have already been done.

Inspection and Related Investigative/Corrective Actions

(f) Within 800 flight hours or 6 months after the effective date of this AD, whichever is first: Do a detailed inspection of the elevator and aileron trim-tab fittings, and all applicable related investigative and corrective actions, by accomplishing all of the actions in the Accomplishment Instructions of Saab Service Bulletin 340-51-025, Revision 01, dated October 21, 2003. Any related investigative and corrective actions must be done before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Parts Installation

(g) As of the effective date of this AD, no person may install on any airplane an elevator or aileron trim-tab fitting unless it has been inspected, and any applicable corrective actions have been done, in accordance with paragraph (f) of this AD.

Reporting Not Required

(h) Although the service bulletin referenced in this AD specifies to submit certain information to the manufacturer, this AD does not include that requirement.

Alternative Methods of Compliance (AMOCs)

(i) The Manager, International Branch, ANM-116, Transport Airplane Directorate, FAA, has the authority to approve AMOCs for this AD, if requested using the procedures found in 14 CFR 39.19.

Related Information

(j) Swedish airworthiness directive 1-194, dated October 14, 2003, also addresses the subject of this AD.

Material Incorporated by Reference

(k) You must use Saab Service Bulletin 340-51-025, Revision 01, dated October 21, 2003, to perform the actions that are required by this AD, unless the AD specifies otherwise. The Director of the Federal Register approves the incorporation by reference of this document in accordance with 5 U.S.C. 552(a) and 1 CFR part 51. For copies of the service information, contact Saab Aircraft AB, SAAB Aircraft Product Support, S-581.88, Linköping, Sweden. For information on the availability of this material at the National Archives and Records Administration (NARA), call (202) 741-6030, or go to http://www.archives.gov/federal_register/code_of_federal_regulations/ibr_locations.html. You may view the AD docket at the Docket Management Facility, U.S. Department of Transportation, 400 Seventh Street, SW., room PL-401, Nassif Building, Washington, DC.

Issued in Renton, Washington, on October 21, 2004.
Kalene C. Yanamura,
Acting Manager, Transport Airplane Directorate, Aircraft Certification Service.

[FR Doc. 04-24520 Filed 11-4-04; 8:45 am]

BILLING CODE 4910-13-P